DEPARTMENT OF DEFENSE

Department of the Navy

[Docket ID USN-2022-HQ-0012]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof.

Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 28, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Judge Advocate General, Military Personnel Division, Code 61, 1322 Patterson Ave. SE, Suite 3000, Washington Navy Yard, DC 20374-5066, ATTN: LT Lindsay McCarl, or call 202-685-8527.

SUPPLEMENTARY INFORMATION:

Title; Associated Form; and OMB Number: U.S. Navy Judge Advocate General Corps Internship, Student, and Direct Accessions Program Applications and Interviews; OPNAV Form 1070/3; OMB Control Number 0703-0074.

Needs and Uses: The online system application is used for both the U.S. Navy Judge Advocate General Corps (JAGC) Student Program and Direct Accession Program. The Student Program offers law students an opportunity to apply for a commission to the JAGC. The Direct Accessions Program offers practicing attorneys the opportunity to apply for a commission to the JAGC. The structured interview is subsequently offered to applicants judged to be most competitive for the JAGC Student Program or Direct Accession Program. The Internship/Externship Program (OPNAV Form 10703/3), is available throughout the year for programs offered in the summer, fall and spring. The Internship/Externship Program offers law students the opportunity to intern with the JAGC while in law school.

Affected Public: Individuals or households.

JAGC Student Program Direct Accession Application

Annual Burden Hours: 1,600.

Number of Respondents: 800.

Responses per Respondent: 1.

Annual Responses: 800.

Average Burden per Response: 2 hours.

Structured Interviews

Annual Burden Hours: 500.

Number of Respondents: 500.

Responses per Respondent: 1.

Annual Responses: 500.

Average Burden per Response: 1 hour.

Internship/Externship Program Application (OPNAV 1070/3)

Annual Burden Hours: 100.

Number of Respondents: 100.

Responses per Respondent: 1.

Annual Responses: 100.

Average Burden per Response: 1 hour.

Total

Annual Burden Hours: 2,200.

Number of Respondents: 900.

Responses per Respondent: 1.56.

Annual Responses: 1,400.

Average Burden per Response: 94.29 minutes.

Frequency: On occasion.

Dated: April 26, 2022.
Aaron T. Siegel,
Alternate OSD Federal Register Liaison Officer, Department of Defense.

[FR Doc. 2022-09264 Filed 4-28-22; 8:45 am]

BILLING CODE 5001-06-P